DEPARTMENT OF JUSTICE

Notice of Lodging of Consent Decree Pursuant to the Comprehensive Environmental Response, Compensation, and Liability Act of 1980, as Amended

Consistent with Department policy, 28 CFR 50.7, 38 FR 19029, and 42 U.S.C. 9622(d), notice is hereby given that on August 15, 2001, a proposed Consent Decree as to Settling Defendants 2, concerning the Somersworth Landfill Site in Somersworth, New Hampshire, was lodged with the United States District Court for the District of New Hampshire in the action captioned United States v. CVS Corporation, et al., D.N.H., Civil No. 01-314-B. The proposed Consent Decree will resolve the claims of the United States, the State of New Hampshire, the City of Somersworth, and the General Electric Company under the Comprehensive Environmental Response, Compensation, and Liability Act (“CERCLA”), 42 U.S.C. 9601, et seq., against (a) Samuel S. Mathews, (b) Facemate PL/GF, Inc., Facemate Corporation, Great Falls Bleachery and Dye Works, a division of Haffenreffer & Co., Inc., Haffenreffer & Co., Inc., Pond Lily Great Falls Company, Haffenreffer (New Hampshire), Inc., Great Falls Bleachery & Dye Works, Pond Lily Company, and Great Northern Industries, Inc. (collectively, the “Facemate Companies”), (c) CVS Corporation and CVS New York, Inc., (d) Natalie Gardner, as Administratrix of the Estate of Fred Tanzer, and Ethlyne Golub, as an individual and as Executrix of the Estate of Burton Golub, and (e) Ron Currier's Hilltop Chevrolet, Inc., and Ronald A Currier, relating to the Somersworth Landfill Site.

Pursuant to the Consent Decree, these defendants have agreed to reimburse to the United States a total of $197,612 for past and oversight costs incurred and to be incurred by the EPA at the Somersworth Landfill Site and to pay a total of $1,119,796 in contribution to the City of Somersworth and the General Electric Company, the parties that are implementing the remedial design and remedial action at the Site pursuant to a previous Consent Decree entered in United States v. City of Somersworth, et al., D.N.H., Civil Action No. 96-46-JD, in 1996.

The Department of Justice will receive for a period of thirty (30) days from the date of publication of this Notice comments relating to the proposed Consent Decree as to Settling Defendants 2. Any comments should be addressed to the Assistant Attorney General of the Environment and Natural Resources Division, U.S. Department of Justice, P.O. Box 7611, Washington, DC 20044-7611, and should reference the following case name and number: United States v. CVS Corporation, et. Al., Civil Action No. 01-314-B, D.J. # 90-11-3-1311/1. In addition, because the Consent Decree as to Settling Defendants 2 includes covenants not to sue the Settling Defendants 2 under Section 7003 of the Resource Conservation and Recovery Act, 42 U.S.C. 6973, the United States will provide an opportunity for a public meeting in the affected area, if requested within the thirty (30) day public comment period. See 42 U.S.C. § 6973(d).

The proposed Consent Decree as to Settling Defendants 2 may be examined at the Office of the United States Attorney, District of New Hampshire, 55 Pleasant Street, Concord, New Hampshire 03301, c/o Gretchen Witt, Esq., (603) 225-1552, or at the Region One office of the U.S. Environmental Protection Agency, One Congress St., Boston, MA 02203, c/o Robert Phocas, Esq., (617) 918-1758. A copy of the proposed Consent Decree as to Settling Defendants 2 may also be obtained by mail from the Consent Decree Library, P.O. Box 7611, U.S. Department of Justice, Washington, DC 20044-7611, c/o Peggy Fenlon-Gore, (202) 514-5245. In requesting a copy, please enclose a check in the amount of $10.00 (25 cents per page reproduction cost) payable to the Consent Decree Library.

Bruce S. Gelber,
Chief, Environmental Enforcement Section, Environment and Natural Resources Division.

[FR Doc. 01-21642 Filed 8-27-01; 8:45 am]

BILLING CODE 4410-15-M